DEPARTMENT OF HOMELAND SECURITY

Federal Emergency Management Agency

44 CFR Part 67

[Docket ID FEMA-2010-0003; Internal Agency Docket No. FEMA-B-1152]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 31, 2011.

ADDRESSES: The corresponding preliminary Flood Insurance Rate Map (FIRM) for the proposed BFEs for each community is available for inspection at the community's map repository. The respective addresses are listed in the table below.

You may submit comments, identified by Docket No. FEMA-B-1152, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) #Depth in feet above ground ‸ Elevation in meters (MSL): Effective | * Elevation in feet (NGVD) + Elevation in feet (NAVD) #Depth in feet above ground ‸ Elevation in meters (MSL): Modified | Communities affected
Fremont County, Colorado, and Incorporated Areas
Arkansas River | Approximately 600 feet upstream of the confluence with Coal Creek East Overflow | +5130 | +5129 | City of Florence, Unincorporated Areas of Fremont County.
| Approximately 1,330 feet downstream of Minnequa Dam Road | +5203 | +5206
Coal Creek | Approximately 0.99 mile upstream of Railroad Street | +5224 | +5222 | City of Florence, Town of Coal Creek, Unincorporated Areas of Fremont County.
| Approximately 0.57 mile upstream of Coal Creek Drive | None | +5435
Coal Creek Tributary 1 | At the confluence with Coal Creek | None | +5335 | Town of Coal Creek, Unincorporated Areas of Fremont County.
| Approximately 1,600 feet upstream of Main Street | None | +5420
Coal Creek Tributary 2 | Just upstream of the confluence with Coal Creek | None | +5400 | Town of Coal Creek, Unincorporated Areas of Fremont County.
| Approximately 0.75 mile upstream of the confluence with Coal Creek | None | +5489
Coal Creek Tributary 3 | Just upstream of the confluence with Coal Creek | None | +5422 | Town of Coal Creek, Unincorporated Areas of Fremont County.
| Approximately 1,100 feet upstream of the confluence with Coal Creek | None | +5440
Forked Gulch | Approximately 300 feet upstream of the confluence with the Arkansas River | +5340 | +5336 | City of Canon City, Unincorporated Areas of Fremont County.
| Approximately 275 feet upstream of North Eagle Drive | None | +5888
Oak Creek | Just upstream of the unnamed railroad | +5256 | +5253 | Town of Rockvale, Town of Williamsburg, Unincorporated Areas of Fremont County.
| Approximately 1,350 feet upstream of Mesa Avenue | None | +5471
South Oak Creek | Just upstream of the confluence with Oak Creek | None | +5424 | Town of Rockvale, Unincorporated Areas of Fremont County.
| Approximately 580 feet upstream of Oak Creek Avenue | None | +5438
West Branch Forked Gulch | Approximately 90 feet upstream of Temple Canyon Road | +5474 | +5473 | City of Canon City, Unincorporated Areas of Fremont County.
| Approximately 525 feet upstream of Lela Lane | None | +6082
West Oak Creek | Just upstream of the confluence with Oak Creek | None | +5268 | Town of Rockvale, Town of Williamsburg, Unincorporated Areas of Fremont County.
| Approximately 0.87 mile upstream of Smith Gulch Road | None | +5534
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Canon City
Maps are available for inspection at 128 Main Street, Canon City, CO 81212.
City of Florence
Maps are available for inspection at 300 West Main Street, Florence, CO 81226.
Town of Coal Creek
Maps are available for inspection at 400 Railroad Street, Coal Creek, CO 81221.
Town of Rockvale
Maps are available for inspection at 510 Railroad Street, Rockvale, CO 81244.
Town of Williamsburg
Maps are available for inspection at 1 John Street, Williamsburg, CO 81226.
Unincorporated Areas of Fremont County
Maps are available for inspection at 615 Macon Avenue, Canon City, CO 81212.
Scott County, Missouri, and Incorporated Areas
Headwater Diversion Channel (backwater effects from Mississippi River) | From the Cape Girardeau County boundary to approximately 1.33 miles upstream of the Cape Girardeau County boundary | +353 | +350 | Unincorporated Areas of Scott County.
Mississippi River | At the Mississippi County boundary | +338 | +335 | Unincorporated Areas of Scott County.
| At the Alexander County boundary | +349 | +351
Ramsey Creek Diversion Channel (backwater effects from Mississippi River) | From the confluence with Headwater Diversion Channel to approximately 3.6 miles upstream of Headwater Diversion Channel | +353 | +350 | City of Scott City, Unincorporated Areas of Scott County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street SW., Washington, DC 20472.
ADDRESSES
City of Scott City
Maps are available for inspection at 215 Chestnut Avenue, Scott City, MO 63780.
Unincorporated Areas of Scott County
Maps are available for inspection at 131 South Winchester Street, Benton, MO 63736.
Hunterdon County, New Jersey (All Jurisdictions)
Brookville Creek | At the confluence with the Delaware and Raritan Canal | +81 | +78 | Borough of Stockton, Township of Delaware.
| Approximately 275 feet upstream of State Route 29 (South Main Street) | +81 | +78
Delaware River | At the Mercer County boundary | +64 | +65 | Borough of Frenchtown, Borough of Milford, Borough of Stockton, City of Lambertville, Township of Alexandria, Township of Delaware, Township of Holland, Township of Kingwood, Township of West Amwell.
| At the Warren County boundary | +158 | +159
Little Nishisakawick Creek | At the confluence with the Delaware River | +124 | +123 | Borough of Frenchtown.
| Approximately 590 feet upstream of State Route 29 (Trenton Avenue) | +124 | +123
Milford Creek | At the confluence with the Delaware River | +136 | +134 | Borough of Milford
| Approximately 1,100 feet downstream of Bridge Road | +136 | +134
Musconetcong River | At the confluence with the Delaware River | +158 | +159 | Township of Holland.
| Approximately 1,100 feet downstream of Mountain Joy Road | +158 | +159
Nishisakawick Creek | At the confluence with the Delaware River | +124 | +123 | Borough of Frenchtown.
| Approximately 150 feet upstream of State Route 12 (Kingwood Avenue) | +124 | +123
Swan Creek | At the confluence with the Delaware River | +68 | +69 | City of Lambertville.
| Approximately 40 feet upstream of State Route 29 (South Main Street) | +68 | +69
Tributary No. 1 to Delaware River | At the confluence with the Delaware River | +147 | +144 | Township of Holland.
| Approximately 775 feet upstream of the railroad bridge | +147 | +144
Wickecheoke Creek | At the confluence with the Delaware River | +86 | +84 | Borough of Stockton, Township of Delaware.
| Approximately 600 feet upstream of State Route 29 | +86 | +84
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Frenchtown
Maps are available for inspection at the Borough Hall, 29 2nd Street, Frenchtown, NJ 08825.
Borough of Milford
Maps are available for inspection at the Borough Hall, 30 Water Street, Milford, NJ 08848.
Borough of Stockton
Maps are available for inspection at the Borough Hall, 2 South Main Street, Stockton, NJ 08559.
City of Lambertville
Maps are available for inspection at City Hall, 18 York Street, Lambertville, NJ 08530.
Township of Alexandria
Maps are available for inspection at the Alexandria Township Municipal Office, 782 Frenchtown Road, Milford, NJ 08848.
Township of Delaware
Maps are available for inspection at the Delaware Township Municipal Building, 570 Rosemont-Ringoes Road, Sergeantsville, NJ 08557.
Township of Holland
Maps are available for inspection at the Holland Township Municipal Building, 61 Church Road, Milford, NJ 08848.
Township of Kingwood
Maps are available for inspection at the Kingwood Township Municipal Building, 599 Oak Grove Road and County Road 519, Frenchtown, NJ 08825.
Township of West Amwell
Maps are available for inspection at the West Amwell Township Municipal Building, 150 Rocktown-Lambertville Road, Lambertville, NJ 08530.
Armstrong County, Pennsylvania (All Jurisdictions)
Allegheny River | Approximately 0.2 mile downstream of the confluence with Allegheny River Tributary 1 | None | +785 | Township of Boggs, Township of Bradys Bend, Township of Cadogan, Township of Hovey, Township of Madison, Township of North Buffalo, Township of Pine, Township of Rayburn.
| Approximately 1.12 miles upstream of State Route 58 | None | +876
Buffalo Creek | Approximately 1.31 miles upstream of State Route 228 | None | +873 | Township of North Buffalo.
| Approximately 1.35 miles upstream of State Route 228 | None | +873
Carnahan Run | Just downstream of State Route 66 | None | +784 | Township of Parks.
| Approximately 655 feet upstream of State Route 66 | None | +784
Garretts Run | Just downstream of State Route 359 | None | +1022 | Township of Kittanning.
| Approximately 271 feet upstream of State Route 359 | None | +1026
Guffy Run | Approximately 80 feet downstream of State Route 66 | None | +780 | Township of Gilpin, Township of Parks.
| Approximately 826 feet upstream of State Route 66 | None | +780
Kiskiminetas River | Approximately 4.9 miles upstream of the confluence with the Allegheny River | None | +774 | Borough of Apollo, Borough of Leechburg, Borough of North Apollo.
| Approximately 1,025 feet upstream of State Route 66 Alternate | None | +799
Redbank Creek | Approximately 648 feet downstream of West Broad Street (State Route 28) | None | +1063 | Borough of South Bethlehem, Township of Mahoning.
| Approximately 0.96 mile upstream of West Broad Street (State Route 28) | None | +1067
Tub Mill Run | Approximately 100 feet upstream of State Route 66 | None | +787 | Township of Manor.
| Approximately 606 feet upstream of State Route 66 | None | +787
* National Geodetic Vertical Datum. +North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Apollo
Maps are available for inspection at the Borough Council Chambers, 616 1st Street, Apollo, PA 15613.
Borough of Leechburg
Maps are available for inspection at the Borough Office, 260 Market Street, Leechburg, PA 15656.
Borough of North Apollo
Maps are available for inspection at the Borough Building, 1421 Leonard Avenue, North Apollo, PA 15673.
Borough of South Bethlehem
Maps are available for inspection at the South Bethlehem Borough Building, 217 West Broad Street, New Bethlehem, PA 16242.
Township of Boggs
Maps are available for inspection at the Boggs Township Hall, 292 Mountain Trails Road, Templeton, PA 16259.
Township of Bradys Bend
Maps are available for inspection at the Bradys Bend Township Municipal Building, 1004 State Route 68, East Brady, PA 16028.
Township of Cadogan
Maps are available for inspection at the Township Hall, 333 1st Avenue, Cadogan, PA 16212.
Township of Gilpin
Maps are available for inspection at the Gilpin Township Municipal Building, 589 State Route 66, Leechburg, PA 15656.
Township of Hovey
Maps are available for inspection at the Hovey Township Building, 217 Washington Street, Parker, PA 16049.
Township of Kittanning
Maps are available for inspection at the Kittanning Township Municipal Building, 395 Township Shed Road, Kittanning, PA 16201.
Township of Madison
Maps are available for inspection at the Madison Township Building, 107 Lawsonham Road, Templeton, PA 16259.
Township of Mahoning
Maps are available for inspection at the Mahoning Township Municipal Building, 987 State Route 1025, New Bethlehem, PA 16242.
Township of Manor
Maps are available for inspection at the Manor Township Municipal Building, 306 Byron Street, McGrann, PA 16236.
Township of North Buffalo
Maps are available for inspection at the North Buffalo Township Municipal Building, 149 McHaddon Road, Kittanning, PA 16201.
Township of Parks
Maps are available for inspection at the Parks Township Community Building, 26 Jackson Street, North Vandergrift, PA 15690.
Township of Pine
Maps are available for inspection at the Pine Township Hall, 100 1st Street, Templeton, PA 16259.
Township of Rayburn
Maps are available for inspection at the Rayburn Township Hall, 105 McGregor Road, Kittanning, PA 16201.
Washington County, Pennsylvania (All Jurisdictions)
Brush Run to Little Tenmile Creek | At the confluence with Little Tenmile Creek | None | +962 | Township of North Bethlehem, Township of West Bethlehem.
| Approximately 0.67 mile upstream of Dynamite Road | None | +1121
Catfish Creek | Approximately 500 feet upstream of West Chestnut Street | None | +1034 | Township of North Franklin.
| Approximately 1,500 feet upstream of West Maiden Street | None | +1044
Chartiers Creek | Approximately 0.50 mile upstream of Mounts Road | None | +1080 | Borough of Green Hills.
| Approximately 0.34 mile downstream of Vaneal Road | None | +1092
Georges Run | Approximately 1,300 feet upstream of North Hewitt Avenue | +1004 | +1006 | Township of Canton, Township of Chartiers.
| Approximately 1,400 feet upstream of Mulberry Hill Road | None | +1106
Little Chartiers Creek | Just downstream of U.S. Route 19 | None | +922 | Township of Peters, Township of Somerset.
| Approximately 0.40 mile downstream of Simmons Road | None | +1024
Little Tenmile Creek | At the confluence with Tenmile Creek | None | +897 | Township of West Bethlehem.
| Approximately 0.76 mile upstream of the confluence with Tenmile Creek | None | +898
Little Tenmile Creek | Approximately 1,800 feet downstream of the confluence with Brush Run to Little Tenmile Creek | None | +961 | Township of West Bethlehem.
| At the confluence with Brush Run to Little Tenmile Creek | None | +962
Maple Creek | Approximately 0.40 mile downstream of Fox Stop Road | None | +786 | Borough of Twilight.
| Approximately 1,800 feet downstream of Fox Stop Road | None | +789
Peters Creek | Approximately 500 feet downstream of Venetia Road | None | +955 | Township of Nottingham, Township of Union.
| Approximately 0.90 mile upstream of Lutes Road | None | +1026
Pigeon Creek (area previously shown within Township of Somerset) | Approximately 400 feet upstream of Monongahela-Bentleyville Road | None | +900 | Borough of Ellsworth.
| Approximately 0.45 mile upstream of Monongahela-Bentleyville Road | None | +906
Pigeon Creek | Approximately 810 feet upstream of Oliver Avenue | None | +953 | Township of Fallowfield.
| Approximately 1,090 feet upstream of Oliver Avenue | None | +956
Robinson Run | Approximately 0.40 mile downstream of Saint Johns Street | None | +1050 | Township of Robinson.
| Approximately 0.30 mile downstream of Saint Johns Street | None | +1056
Tenmile Creek | Just downstream of Jefferson Avenue | None | +877 | Borough of Marianna, Township of West Bethlehem.
| Approximately 300 feet downstream of Hufford Run Road | None | +901
Tenmile Creek | Approximately 1.30 miles downstream of Pleasant Road | None | +1025 | Township of Morris.
| Approximately 1.21 miles downstream of Pleasant Road | None | +1026
Tributary 4.1 (backwater effects from Tributary 4) | From approximately 380 feet upstream of the confluence with Tributary 4 to approximately 880 feet upstream of the confluence with Tributary 4 | None | +1015 | Township of North Strabane.
* National Geodetic Vertical Datum. +North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Ellsworth
Maps are available are available for inspection at the Borough Building, 23 Main Street, Ellsworth, PA 15331.
Borough of Green Hills
Maps are available are available for inspection at the Green Hills Borough Hall, 96 North Main Street, Washington, PA 15301.
Borough of Marianna
Maps are available are available for inspection at the Borough Building, 1 Procasky Road, Marianna, PA 15345.
Borough of Twilight
Maps are available are available for inspection at the Twilight Borough Building, 8 Chestnut Road, Charleroi, PA 15022.
Township of Canton
Maps are available are available for inspection at the Canton Township Hall, 655 Grove Avenue, Washington, PA 15301.
Township of Chartiers
Maps are available are available for inspection at the Chartiers Township Hall, 2 Buccaneer Drive, Houston, PA 15342.
Township of Fallowfield
Maps are available are available for inspection at the Fallowfield Township Hall, 9 Memorial Drive, Charleroi, PA 15022.
Township of Morris
Maps are available are available for inspection at the Morris Township Hall, 473 Sparta Road, Prosperity, PA 15329.
Township of North Bethlehem
Maps are available for inspection at the North Bethlehem Township Municipal Building, 2116-R East National Pike, Scenery Hill, PA 15360.
Township of North Franklin
Maps are available are available for inspection at the North Franklin Township Hall, 620 Franklin Farms Road, Washington, PA 15301.
Township of North Strabane
Maps are available are available for inspection at the North Strabane Municipal Building, 1929 State Route 519 South, Canonsburg, PA 15317.
Township of Nottingham
Maps are available are available for inspection at the Nottingham Township Hall, 909 Sugar Run Road, Eighty Four, PA 15330.
Township of Peters
Maps are available are available for inspection at the Peters Township Municipal Building, 610 East McMurray Road, McMurray, PA 15317.
Township of Robinson
Maps are available are available for inspection at the Robinson Township Office, 8400 Noblestown Road, McDonald, PA 15057.
Township of Somerset
Maps are available are available for inspection at the Somerset Township Office, 615 Vanceville Road, Eighty Four, PA 15330.
Township of Union
Maps are available are available for inspection at the Union Township Municipal Building, 3904 Finleyville-Elrama Road, Finleyville, PA 15332.
Township of West Bethlehem
Maps are available are available for inspection at the West Bethlehem Township Municipal Building, 247 Jefferson Avenue, Marianna, PA 15345.

(Catalog of Federal Domestic Assistance No. 97.022, “Flood Insurance.”)

Dated: October 15, 2010.
Sandra K. Knight,
Deputy Federal Insurance and Mitigation Administrator, Mitigation, Department of Homeland Security, Federal Emergency Management Agency.

[FR Doc. 2010-27583 Filed 11-1-10; 8:45 am]

BILLING CODE 9110-12-P